DEPARTMENT OF COMMERCE

National Oceanic and Atmospheric Administration

Science Advisory Board

AGENCY: National Oceanic and Atmospheric Administration (NOAA), Department of Commerce (DOC).

ACTION: Notice of public meetings.

SUMMARY: This notice sets forth the schedule and proposed agenda of two meetings of the Science Advisory Board (SAB). The members will discuss issues outlined in the section on Matters to be considered.

DATES: There are two meetings: the first meeting is scheduled for August 27, 2020, from 3:00 p.m. to 3:45 p.m. Eastern Daylight Time (EDT). The second meeting is scheduled for September 22, 2020, from 3:00 p.m. to 5:00 p.m. Eastern Daylight Time (EDT). These times and the agenda topics described below are subject to change. For the latest agenda please refer to the SAB website: http://sab.noaa.gov/SABMeetings.aspx.

ADDRESSES: Due to the current Pandemic both meetings will be held virtually. The link for the webinar registration for the August 27, 2020 meeting may be found here: https://attendee.gotowebinar.com/register/1216984958297330448. The link for the September 22, 2020 meeting will be posted on the SAB website when available.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The August 27, 2020 meeting will be open to public participation with a 5-minute public comment period at 3:40 p.m. (EDT). The September 22, 2020 meeting will have a 5-minute public comment period at 4:45 p.m. (EDT). The SAB expects that public statements presented at its meetings will not be repetitive of previously submitted verbal or written statements. In general, each individual or group making a verbal presentation will be limited to a total time of three minutes. Written comments for the August 27, 2020 meeting should be received by August 12, 2020 and written comments for the September 22, 2020 meeting should be received in the SAB Executive Director's Office by September 7, 2020 to provide sufficient time for SAB review. Written comments received by the SAB Executive Director after these dates will be distributed to the SAB, but may not be reviewed prior to the meeting date.

Special Accommodations: These meetings are physically accessible to people with disabilities. Requests for special accommodations may be directed to the Executive Director no later than 12:00 p.m. (EDT).

Matters To Be Considered: The meeting on August 27, 2020 will consider the Precipitation Prediction Grand Challenge report by the Climate Working Group. The September 22, 2020 meeting will consider updates contained in the SAB long-term work plan based on the NOAA Priorities. Meeting materials, including work products, will be made available on the SAB website: http://sab.noaa.gov/SABMeetings.aspx.

Dated: August 5, 2020.
Eric Locklear,
Deputy Chief Financial Officer/Administrative Officer, Office of Oceanic and Atmospheric Research, National Oceanic and Atmospheric Administration.

[FR Doc. 2020-17418 Filed 8-7-20; 8:45 am]

BILLING CODE 3510-KD-P